ENVIRONMENTAL PROTECTION AGENCY

40 CFR Part 52

[EPA-R03-OAR-2013-0066; FRL- 9814-8]

Approval and Promulgation of Air Quality Implementation Plans; Maryland; Adoption of Control Techniques Guidelines for Miscellaneous Metal and Plastic Parts Which Includes Pleasure Craft Coating Operations

AGENCY: Environmental Protection Agency (EPA).

ACTION: Proposed rule.

SUMMARY: EPA is proposing to approve revisions to the Maryland State Implementation Plan (SIP) submitted by the Maryland Department of the Environment (MDE) on January 10, 2013. The SIP revision consists of a new regulation pertaining to control of volatile organic compound emissions from pleasure craft coating operations. This action is being taken under the Clean Air Act (CAA).

DATES: Written comments must be received on or before June 17, 2013.

ADDRESSES: Submit your comments, identified by Docket ID Number EPA-R03-OAR-2013-0066 by one of the following methods:

A. www.regulations.gov. Follow the on-line instructions for submitting comments.

B. Email: fernandez.cristina@epa.gov.

C. Mail: EPA-R03-OAR-2013-0066, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2013-0066. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Gregory Becoat, (215) 814-2036, or by email at becoat.gregory@epa.gov.

SUPPLEMENTARY INFORMATION:

I. EPA Action

II. Background

III. SIP Revision Submitted by the State of Maryland

IV. Proposed Action

V. Statutory and Executive Order Review

I. EPA Action

EPA is proposing to approve revisions to Maryland's SIP which were submitted by MDE on January 10, 2013. The SIP revision submittal adopts the requirements as recommended by EPA's control technique guidelines (CTG) for Miscellaneous Metal Parts and Plastic Coating (MMPPC) operations and as recommended by trade associations representing the pleasure craft industry. Specifically, MDE has added Regulation .27-1 under COMAR 26.11.19 to reduce further volatile organic compound (VOC) emissions from pleasure craft coating operations. This revision reflects technology developments and expands VOC emission controls, as well as reflects the recommended reasonably available control technology (RACT) requirements in EPA's CTG for MMPPC.

II. Background

Section 172(c)(1) of the CAA provides that SIPs for nonattainment areas must include reasonably available control measures (RACM), including RACT, for sources of emissions. Section 182(b)(2)(A) provides that for certain nonattainment areas, states must revise their SIP to include RACT for sources of VOC emissions covered by a CTG document issued after November 15, 1990 and prior to the area's date of attainment. EPA defines RACT as “the lowest emission limitation that a particular source is capable of meeting by the application of control technology that is reasonably available considering technological and economic feasibility.” (44 FR 53761, September 17, 1979).

CTGs are documents issued by EPA intended to provide state and local air pollution control authorities information that should assist them in determining RACT for VOC from various sources. Section 183(e)(3)(c) provides that EPA may issue a CTG in lieu of a national regulation as RACT for a product category where EPA determines that the CTG will be substantially as effective as regulations in reducing emissions of VOC in ozone nonattainment areas. The recommendations in the CTG are based upon available data and information and may not apply to a particular situation based upon the circumstances. States can follow the CTG and adopt state regulations to implement the recommendations contained therein, or they can adopt alternative approaches. In either case, states must submit their RACT rules to EPA for review and approval as part of the SIP process.

EPA developed the CTG for MMPPC in September 2008. The miscellaneous metal product and plastic parts surface coatings categories under section 183(e) of the CAA include the coatings that are applied to the surfaces of a varied range of metal and plastic parts and products. Such parts or products are constructed either entirely or partially from metal or plastic. These miscellaneous metal products and plastic parts include, but are not limited to, metal and plastic components of the following types of products as well as the products themselves: Fabricated metal products, molded plastic parts, small and large farm machinery, commercial and industrial machinery and equipment, automotive or transportation equipment, interior or exterior automotive parts, construction equipment, motor vehicle accessories, bicycles and sporting goods, toys, recreational vehicles, pleasure craft (recreational boats), extruded aluminum structural components, railroad cars, heavier vehicles, lawn and garden equipment, business machines, laboratory and medical equipment, electronic equipment, steel drums, metal pipes, and numerous other industrial and household products.

The pleasure craft coating category does not include coatings that are a part of other product categories listed under Section 183(e) of the CAA for which CTGs have been published or included in other CTGs. As a result, members of the pleasure craft coatings industry contacted EPA requesting reconsideration of the pleasure craft VOC limits contained in EPA's 2008 MMPPC CTG. In response, EPA issued a memorandum on June 1, 2010, titled “Control Technique Guidelines for Miscellaneous Metal and Plastic Part Coatings—Industry Request for Reconsideration,” recommending that the pleasure craft industry work with state agencies during their RACT rule development process to assess what is reasonable for the specific sources regulated. EPA has stated that states can use the recommendations from the MMPPC CTG to form their own determinations as to what constitutes RACT for pleasure craft coating operations in their particular ozone nonattainment area. CTGs impose no legally binding requirements on any entity, including pleasure craft coating facilities. As stated in the memorandum, EPA will evaluate state-developed RACT rules and determine whether the submitted rules meet the RACT requirements of the CAA.

III. SIP Revision Submitted by the State of Maryland

On January 10, 2013, MDE submitted a SIP revision adopting the recommendations contained in both EPA's MMPPC CTG and in comments from trade associations representing the pleasure craft industry for the control of VOC as RACT. The SIP revision adds Regulation .27-1 under COMAR 26.11.19 in order to: (1) Establish applicability for pleasure craft and fiberglass boat coating operations at facilities with actual VOC emissions of 15 pounds or more per day (15 lb/day) from coating operations as determined on a monthly average on or after January 1, 2013; (2) establish exemptions for certain types of coatings; (3) add definitions and terms to reflect pleasure craft coating operations; (4) incorporate by reference the standard test method for Specular Gloss; (5) establish that the least stringent emission limitation is applicable if more than one emission limitation applies to a specific coating; (6) establish application methods; and (7) specify VOC limit requirements for pleasure craft coating operations in Table 1 below.

Table 1—Pleasure Craft Coating Standards
[Expressed in terms of mass of VOC per volume of coating excluding water and exempt compounds, as applied]
Coating types | Pounds (lbs) VOC/gallon | Kilograms (kg) VOC/liter
Extreme high gloss topcoat | 5.0 | 0.60
High gloss topcoat | 3.5 | 0.42
Pretreatment wash primers | 6.5 | 0.78
Finish primer/surface:
Applicable through March 31, 2014 | 5.0 | 0.60
Applicable through March 31, 2014 | 3.5 | 0.42
High build primer/surface | 2.8 | 0.34
Aluminum substrate antifoulant coating | 4.7 | 0.56
Antifouling sealer/tiecoat | 3.5 | 0.42
Other substrate antifoulant coating | 3.3 | 0.40
All other pleasure craft surface coatings | 3.5 | 0.42

More detailed information on these provisions can be found in the technical support document located in the docket prepared for this rulemaking action.

IV. Proposed Action

EPA is proposing to approve the State of Maryland SIP revision submitted on January 10, 2013, adopting the requirements as recommended by the MMPPC CTG and adopting the pleasure craft industry recommendations for the following four coating categories: Finish Primer/Surfacer; Antifouling Sealer/Tiecoat; Other Substrate Antifoulant; and Extreme High Gloss. For these four categories, Maryland reviewed industry data and determined that for the purpose of functionality, cost, and VOC emissions, the alternative limits adopted for these four coating categories constitute RACT. EPA believes that Maryland's approach is consistent with the guidance memorandum entitled, “Control Technique Guidelines for Miscellaneous Metal and Plastic Part Coatings—Industry Request for Reconsideration,” and therefore, believes that these regulations reflect RACT. EPA concurs with MDE's analysis in the SIP submittal that this regulation reflects RACT. EPA is soliciting public comments on the issues discussed in this document. These comments will be considered before taking final action.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule, pertaining to the State of Maryland's amendments to regulations for the control of VOCs for MMPPC, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Ozone, Volatile organic compounds.

Authority: 42 U.S.C. 7401 et seq.

Dated: May 2, 2013.
W.C. Early,
Acting, Regional Administrator, Region III.

[FR Doc. 2013-11789 Filed 5-15-13; 8:45 am]

BILLING CODE 6560-50-P